DEPARTMENT OF DEFENSE

Office of the Secretary

Submission for OMB Review; Comment Request

ACTION: Notice.

The Department of Defense will submit to OMB for emergency processing, the following proposal for collection of information under the provisions of the Paperwork Reduction Act (44 U.S.C. Chapter 35).

Title and OMB Number: Personnel Security Investigation Projection for Industry Survey; OMB Number 0704-[To Be Determined].

Type of Request: New Collection; Emergency processing requested with a shortened public comment period ending December 11, 2000. An approval date by December 15, 2000, has been requested.

Number of Respondents: 242.

Responses Per Respondents: 1.

Annual Responses: 242.

Average Burden Per Response: 75 minutes.

Annual Burden Hours: 303.

Needs and Uses: Under the National Industrial Security Program (NISP), the Defense Security Service (DSS) is responsible for personnel security clearance investigations within industry. The Defense Security Service has used historical data for agency budget projections.

This collection of information is necessary to request the voluntary assistance of a segment of the cleared industry facilities to provide projections of numbers and types of personnel security investigations. This initial effort will serve as the prototype for an annual data collection from industry. This information collection will only address the largest cleared facilities that account for a significant number of the security clearances. The data would become part of the total clearance projections for industry to be included in an automated database for use with DSS budget submissions.

Affected Public: Business or Other For-Profit.

Frequency: On Occasion.

Respondent's Obligation: Voluntary.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302, or by fax at (703) 604-6270.

Dated: November 30, 2000.
Patricia L. Toppings,
Alternate OSD Federal Register Liaison Officer, Department of Defense.

[FR Doc. 00-31016 Filed 12-5-00; 8:45 am]

BILLING CODE 5001-10-M